DEPARTMENT OF HOUSING AND URBAN DEVELOPMENT

[Docket No. FR-4655-N-14]

Notice of Proposed Information Collection: Comment Request; Compliance Inspection Report and Mortgagee's Assurance of Completion

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: Comments Due Date: July 17, 2001.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Vance T. Morris, Director, Office of Single Family Program Development, Department of Housing and Urban Development, 451 7th Street SW., Washington, DC 20410, telephone (202) 708-2121 (this is not a toll free number) for copies of the proposed forms and other available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

Title of Proposal: Compliance Inspection Report & Mortgagee's Assurance of Completion.

OMB Control Number, if applicable: 2502-0189.

Description of the need for the information and proposed use: This is a request for reinstatement, without change, of a previously approved collection for which approval has expired. Form HUD-92051, Compliance Inspection Report, is the document on which the property inspector or appraiser prepares his/her findings. The form provides categories for the inspector or appraiser to report the status of repair requirements on proposed construction cases. This report becomes a part of the case file and a copy is provided to the lender. Form HUD-92300, Mortgagee's Assurance of Completion, is completed by the mortgagee and assures HUD that the items set forth in the inspection report will be completed by the required date stated.

Agency form numbers, if applicable: HUD-92051 and HUD-92300.

Estimation of the total numbers of hours needed to prepare the information collection including number of respondents, frequency of response, and hours of response: The estimated number of respondents for the HUD-92051 is 14,500 which will generate 3,625,000 responses; frequency of response is approximately 250 times each, the estimated time per response is 0.25 hours and the total annual burden requested is 906,250 hours. The estimated number of respondents for the HUD-92300 is 14,500 which will generate 14,500 responses, frequency of response is one time; the estimated time per response is 0.25 hours and the total annual burden is 3,625.

Status of the proposed information collection: Reinstatement, without change, of a previously approved collection for which approval has expired.

Authority: The Paperwork Reduction Act of 1995, 44 U.S.C., Chapter 35, as amended.

Dated: May 10, 2001.
Sean G. Cassidy,
General Deputy Assistant Secretary for Housing—Deputy Federal Housing Commission.

[FR Doc. 01-12494 Filed 5-17-01; 8:45 am]

BILLING CODE 4210-27-M